DEPARTMENT OF LABOR

Employment and Training Administration

Proposed Information Collection Request Submitted for Public Comment and Recommendations; Job Corps Placement Verification and Follow-Up of Job Corps Participants

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before April 17, 2006.

ADDRESSES: Send comments to the Office of Job Corps, 200 Constitution Ave., NW., N-4507, Washington, DC 20210. E-Mail Internet Address: conboy.chris@dol.gov; Telephone number: (202) 693-3000. Fax number: (202) 693-2767.

FOR FURTHER INFORMATION CONTACT: Chris Conboy, Office of Job Corps, 200 Constitution Ave., NW., Rm. N-4510, Washington, DC 20210. E-Mail Internet Address: conboy.chris@dol.gov; Telephone number: (202) 693-3093. Fax number: (202) 693-3113.

SUPPLEMENTARY INFORMATION:

I. Background

The Job Corps program authorized by the Workforce Investment Act (WIA) of 1998, is designed to serve low-income young women and men, 16 through 24, who are in need of additional vocational, educational and social skills training, and other support services in order to gain meaningful employment, return to school or enter the Armed Forces. Job Corps is operated by the Department of Labor through a nationwide network of 118 Job Corps centers. The program is primarily a residential program operating 24 hours per day, 7 days per week, with non-resident enrollees limited by legislation to 20 percent of national enrollment. These centers presently accommodate more than 40,000 students.

The Placement Verification and Follow-up of Job Corps Participants is comprised of three data collection instruments to collect follow-up data on individuals who are no longer actively participating in Job Corps. The instruments consist of modules that include questions designed to obtain the following information: re-verification of initial job and/or school placements; employment and educational experiences; job search activities of those who are neither working nor in school; and information about former participants' satisfaction with the services provided by Job Corps.

II. Desired Focus of Comments

Currently, the Office of Job Corps is soliciting comments concerning the proposed extension of form ETA 426 Job Corps Placement Verification and Follow-up of Job Corps Participants.

• To evaluate whether the proposed collection of information is necessary for the proper performance of the functions of the agency, including whether the information will have practical utility;

• To evaluate the accuracy of the agency's estimate of the burden of the proposed collection of information, including the validity of the methodology and assumptions used;

• To enhance the quality, utility, and clarity of the information to be collected; and

• To minimize the burden of the collection of information on those who are to respond, including through the use of appropriate automated, electronic, mechanical, or other technological collection techniques or other forms of information technology, e.g., permitting electronic submissions of responses.

Copies of the Paperwork Reduction Act Submission Package are at this Web site: http://www.doleta.gov/Performance/guidance/OMBControlNumber.cfm.

III. Current Actions

Type of Review: Extension.

Agency: Employment and Training Administration.

Title: Job Corps Placement Verification and Follow-up of Job Corps Participants.

OMB Number: 1205-0426.

Agency Number: N/A.

Recordkeeping: The respondent is not required to retain records; Career Transition Service providers and center staff are required to retain records of graduates and former enrollees, who are placed in a job, further education or military service, for three years.

Affected Public: Individuals or households and Business or other for-profit institutions.

Cite/Reference/Form/etc.: 20 CFR, subpart A, section 670.100.

Estimated Total Burden Hours: 16,483 burden hours.

Respondent category | Number of responses | Estimated hours per response | Estimated hours total burden
Placed Former Enrollees at 90 days | 1,815 | .25 | 454
Placed Graduates at 90-120 days | 22,720 | .25 | 5,680
Placed Graduates at 6 Months | 23,360 | .20 | 4,672
Placed Graduates at 12 Months | 21,440 | .20 | 4,288
Employer/Institution Re-verification | 8,172 | .17 | 1,389
Total | 77,507 |  | 16,483

Total Burden Cost (capital/startup): n/a.

Total Burden Cost (operating/maintaining): $2,908,443.

Comments submitted in response to this notice will be summarized and/or included in the request for Office of Management and Budget approval of the information collection request; they will also become a matter of public record.

Dated: February 3, 2006.
Grace A. Kilbane,
National Director, Office of Job Corps.

[FR Doc. E6-2068 Filed 2-13-06; 8:45 am]

BILLING CODE 4510-30-P